DEPARTMENT OF HEALTH AND HUMAN SERVICES

Centers for Disease Control and Prevention

Immigration and Nationality Act, Delegation of Authority

Notice is hereby given that I have delegated to the Director, Centers for Disease Control and Prevention, with authority to redelegate, the authorities vested in the Secretary of Health and Human Services under section 412(b)(4) of the Immigration and Nationality Act (8 U.S.C. 1522(b)(4)), as amended hereafter.

This delegation shall be exercised under the Department's existing delegation of authority and policy on regulations.

This delegation is effective upon signature. In addition, I hereby affirm and ratify any action taken by the Director, Centers for Disease Control and Prevention or her subordinates which involve the exercise of the authorities delegated herein prior to the effective date of the delegation

Dated: July 3, 2003.
Tommy G. Thompson,
Secretary.

[FR Doc. 03-17918 Filed 7-15-03; 8:45 am]

BILLING CODE 4160-18-M